FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 15, 2015.

A. Federal Reserve Bank of San Francisco (Gerald C. Tsai, Director, Applications and Enforcement) 101 Market Street, San Francisco, California 94105-1579:

1. Irving Moore Feldkamp, III, The Irving M. Feldkamp and Pamela Jo Feldkamp Family Trust of 2003, both of Redlands, California, Irving M. Feldkamp, IV, Paragold, LP, both of San Bernardino, California, and Burlington National Indemnity, Ltd., Grand Cayman, Cayman Island; to acquire voting shares of Seacoast Commerce Banc Holdings, and thereby indirectly acquire voting shares of Seacoast Commerce Bank, both in San Diego, California.

Board of Governors of the Federal Reserve System,

June 25, 2015.
Michael J. Lewandowski,
Associate Secretary of the Board.

[FR Doc. 2015-16016 Filed 6-29-15; 8:45 am]

BILLING CODE 6210-01-P